DEPARTMENT OF THE INTERIOR

Bureau of Land Management

[AZ-020-00-1430-EU; AZA-31774FD]

Notice of Realty Action; Recreation and Public Purposes (R&PP) Act Classification; Arizona, Correction

AGENCY: Bureau of Land Management, Interior.

Correction

In notice issued in Volume 68 Number 30 beginning on page 7387 in the issue dated February 13, 2003, make the following correction: On page 7387 under the heading, in the third column, “(AZ-020-00-1430-EU; AZA-31744FD)” should read “(AZ-020-00-1430-EU; AZA-31774FD)”.

Dated: February 19, 2003.
MarLynn Spears,
Acting Field Manager, Phoenix Field Office.

[FR Doc. 03-4593 Filed 2-26-03; 8:45 am]

BILLING CODE 4310-32-P